DEPARTMENT OF HEALTH AND HUMAN SERVICES

Centers for Disease Control and Prevention

Breast and Cervical Cancer Early Detection and Control Advisory Committee Meeting

In accordance with section 10(a)(2) of the Federal Advisory Committee Act (Pub. L. 92-463), the Centers for Disease Control and Prevention (CDC) announces the following committee meeting:

Name: Breast and Cervical Cancer Early Detection and Control Advisory Committee (BCCEDCAC).

Time and Date: 1:30 p.m.—3:30 p.m., March 13, 2002.

Place: The Sheraton Colony Square Hotel, 188 14th Street, NE, Atlanta, Georgia 30361. Telephone: (404) 892-6000.

Status: Open to the public limited only by the space available. The meeting room accommodates approximately 50 people.

Purpose: This committee is charged with providing advice and guidance to the Secretary, and the Director of CDC, regarding the need for early detection and control of breast and cervical cancer and to evaluate the Department's current breast and cervical cancer early detection and control activities.

Matters To Be Discussed: The discussion will primarily focus on committee rechartering.

Agenda items are subject to change as priorities dictate.

Contact Person for Additional Information: Kevin Brady, Division of Cancer Prevention and Control, National Center for Chronic Disease Prevention and Health Promotion, CDC, 4770 Buford Highway, NE, M/S K-57, Atlanta, Georgia 30341-3724, telephone 770/488-4226.

The Director, Management Analysis and Services Office has been delegated the authority to sign Federal Register notices pertaining to announcements of meetings and other committee management activities for both the Centers for Disease Control and Prevention and the Agency for Toxic Substances and Disease Registry.

Dated: February 22, 2002.
Alvin Hall,
Acting Director, Management Analysis and Services Office, Centers for Disease Control and Prevention.

[FR Doc. 02-4774 Filed 2-27-02; 8:45 am]

BILLING CODE 4163-19-P